DEPARTMENT OF VETERANS AFFAIRS

[OMB Control No. 2900-0524]

Agency Information Collection (VA Police Officer Pre-Employment Screening Checklist) Activities Under OMB Review

AGENCY: Office of Policy, Planning and Preparedness, Department of Veterans Affairs.

ACTION: Notice.

SUMMARY: In compliance with the Paperwork Reduction Act (PRA) of 1995 (44 U.S.C. 3501-3521), this notice announces that the Office of Policy, Planning and Preparedness (OPP&P), Department of Veterans Affairs, will submit the collection of information as abstracted below to the Office of Management and Budget (OMB) for review and comment. The PRA submission describes the nature of the information collection and its expected cost and burden; it includes the actual data collection instrument.

DATES: Comments must be submitted on or before July 26, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0524” in any correspondence.

FOR FURTHER INFORMATION CONTACT: Crystal Rennie, Enterprise Records Service (005R1B), Department of Veterans Affairs, 810 Vermont Avenue NW., Washington, DC 20420, (202) 632-7492, Fax (202) 632-7634 or email crystal.rennie@va.gov. Please refer to “OMB Control No. 2900-0524.”

SUPPLEMENTARY INFORMATION: Title: VA Police Officer Pre-Employment Screening Checklist.

OMB Control Number: 2900-0524.

Type of Review: Extension of a currently approved collection.

Abstract: VA personnel use the form to document pre-employment history and conduct background checks on applicants seeking employment as VA police officers. VA will use the data collected to determine the applicant's qualification and suitability to be hired as a VA police officer.

An agency may not conduct or sponsor, and a person is not required to respond to a collection of information unless it displays a currently valid OMB control number. The Federal Register Notice with a 60-day comment period soliciting comments on this collection of information was published on March 26, 2013, at page 18425.

Affected Public: State, Local, or Tribal Government.

Estimated Total Annual Burden: 250 hours.

Estimated Average Burden per Respondent: 10 minutes.

Frequency of Response: One-time.

Estimated Number of Respondents: 1,500.

Dated: June 21, 2013.
By direction of the Secretary.
Crystal Rennie,
VA Clearance Officer, U.S. Department of Veterans Affiars.

[FR Doc. 2013-15232 Filed 6-25-13; 8:45 am]

BILLING CODE 8320-01-P